DEPARTMENT OF HEALTH AND HUMAN SERVICES

Office of the Secretary

Assistant Secretary for Management and Budget; Statement of Delegation

Notice is hereby given that I have delegated to the Assistant Secretary for Management and Budget (ASMB), with authority to redelegate, the responsibility to coordinate the implementation and enforcement of Section 508 of the Rehabilitation Act of 1973, 29 U.S.C. 794d, as amended, relating to employment and electronic and information technology programs and activities conducted by the Department.

Pursuant to this delegation, the Assistant Secretary for Management and Budget shall have the authority to:

(1) Accept and investigate employment discrimination complaints filed by Federal employees and applicants for employment at the Department alleging a failure to comply with Section 508 consistent with the procedures at 29 CFR part 1614;

(2) Provide technical assistance to other departmental components regarding the processing and resolution of Section 508 employment discrimination complaints;

(3) Evaluate the effectiveness of Section 508 employment discrimination complaint processing and provide reports to appropriate oversight organizations; and

(4) Initiate such other actions as may be necessary to facilitate and ensure compliance with Section 508 of the Rehabilitation Act consistent with the procedures at 29 CFR part 1614.

This delegation is effective immediately.

Dated: August 30, 2001.
Tommy G. Thompson,
Secretary.

[FR Doc. 01-22957 Filed 9-12-01; 8:45 am]

BILLING CODE 4150-24-M